DEPARTMENT OF HEALTH AND HUMAN SERVICES

Health Care Financing Administration

[Document Identifier: HCFA-R-267]

Agency Information Collection Activities: Submission for OMB Review; Comment Request

In compliance with the requirement of section 3506(c)(2)(A) of the Paperwork Reduction Act of 1995, the Health Care Financing Administration (HCFA), Department of Health and Human Services, has submitted to the Office of Management and Budget (OMB) the following proposal for the collection of information. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Reinstatement, with change, of a previously approved collection for which approval has expired; Title of Information Collection: Medicare Plus Choice Program Requirements Referenced in 42 CFR 422.000-422.700; Form No.: HCFA-R-0267 (OMB# 0938-0753); Use: Section 4001 of the Balanced Budget Act of 1997 added sections 1851 through 1859 to the Social Security Act to establish a new Part C of the Medicare Program, known as the Medicare+Choice program. Under this program, every individual entitled to Medicare Part A and enrolled under Part B may elect to receive benefits through either the existing Medicare fee-for-service program or a Part C M+C plan. The regulations implementing these sections was published on June 26, 1998. The regulations revising these sections was published on February 17, 1999 and June 29, 2000.; Frequency: Other: as needed; Affected Public: Business or other for-profit, Individuals or Households, Not-for-profit institutions, Federal Government, and State, Local, or Tribal Government; Number of Respondents: 2,450; Total Annual Responses: 7,657,534; Total Annual Hours: 2,120,006.

To obtain copies of the supporting statement for the proposed paperwork collections referenced above, access HCFA's WEB SITE ADDRESS at http://www.hcfa.gov/regs/prdact95.htm, or E-mail your request, including your address and phone number, to Paperwork@hcfa.gov. or call the Reports Clearance Office on (410) 786-1326. Written comments and recommendations for the proposed information collections must be mailed within 30 days of this notice directly to the OMB Desk Officer designated at the following address: OMB Human Resources and Housing Branch, Attention: Allison Eydt, New Executive Office Building, Room 10235, Washington, DC 20503.

Dated: April 24, 2001.
John P. Burke, III,
HCFA Reports Clearance Officer, HCFA, Office of Information Services, Security and Standards Group, Division of HCFA Enterprise Standards.

[FR Doc. 01-11967 Filed 5-11-01; 8:45 am]

BILLING CODE 4120-03-P